DEPARTMENT OF TRANSPORTATION

Federal Aviation Administration

14 CFR Part 39

[Docket No. FAA-2018-0302; Product Identifier 2013-NM-228-AD; Amendment 39-19258; AD 2018-09-02]

RIN 2120-AA64

Airworthiness Directives; Airbus Airplanes

AGENCY: Federal Aviation Administration (FAA), DOT.

ACTION: Final rule; request for comments.

SUMMARY: We are superseding Airworthiness Directive (AD) 99-23-16, which applied to certain Airbus Model A330 and A340 series airplanes. AD 99-23-16 required repetitive detailed visual inspections to detect cracking of the vertical flange of the inboardZ-stiffeners of the centerline panel of the fuselage belly fairing; and corrective actions, if necessary. This AD was prompted by a new fatigue and damage tolerance evaluation that concluded that the current inspection thresholds and intervals had to be more restrictive. This AD requires contacting the FAA to obtain instructions for addressing the unsafe condition on these products, and doing the actions specified in those instructions. We are issuing this AD to address the unsafe condition on these products.

DATES: This AD becomes effective May 15, 2018.

We must receive comments on this AD by June 14, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations,M-30, West Building Ground Floor, Room W12-140, 1200 New Jersey Avenue SE, Washington, DC 20590.

• Hand Delivery: U.S. Department of Transportation, Docket Operations,M-30, West Building Ground Floor, Room W12-140, 1200 New Jersey Avenue SE, Washington, DC, between 9 a.m. and 5 p.m., Monday through Friday, except Federal holidays.

Examining the AD Docket

You may examine the AD docket on the internet at http://www.regulations.gov by searching for and locating Docket No. FAA-2018-0302; or in person at the Docket Operations office between 9 a.m. and5 p.m., Monday through Friday, except Federal holidays. The AD docket contains this AD, the regulatory evaluation, any comments received, and other information. The street address for the Docket Operations office (telephone: 800-647-5527) is in the ADDRESSES section. Comments will be available in the AD docket shortly after receipt.

FOR FURTHER INFORMATION CONTACT: Vladimir Ulyanov, Aerospace Engineer, International Section, Transport Standards Branch, FAA, 2200 South 216th Street, Des Moines, WA 98198; telephone and fax: 206-231-3229.

SUPPLEMENTARY INFORMATION:

Discussion

We issued AD 99-23-16, Amendment 39-11412 (64 FR 61485, November 12, 1999) (“AD 99-23-16”), which applied to certain Airbus Model A330 and A340 series airplanes. AD 99-23-16 was prompted by issuance of mandatory continuing airworthiness information by a foreign civil aviation authority. AD 99-23-16 required repetitive detailed visual inspections to detect cracking of the vertical flange of the inboardZ-stiffeners of the centerline panel of the fuselage belly fairing; and corrective actions, if necessary. We issued AD 99-23-16 to detect and correct fatigue cracking of the vertical flange of the inboard Z-stiffeners of the centerline panel of the fuselage belly fairing, which could result in reduced structural integrity of the belly fairing.

Since we issued AD 99-23-16, a new fatigue and damage tolerance evaluation was conducted by the manufacturer. It was concluded that, due to airplane utilization, the current inspection thresholds and intervals had to be more restrictive.

The European Aviation Safety Agency (EASA), which is the Technical Agent for the Member States of the European Union, has issued EASA AD 2013-0241, dated October 1, 2013 (referred to after this as the Mandatory Continuing Airworthiness Information, or “the MCAI”), to correct an unsafe condition for certain Airbus Model A330 and A340 series airplanes. The MCAI states:

In order to prevent a damage in the inboard Z profile at the Center Landing Gear (CLG) door fitting location (Frame 49 to 53.2) caused by cracks evidenced during fatigue tests and which could lead to a reduced structural integrity, DGAC France AD 96-056-029(B) and DGAC France AD 96-057-042(B) [which corresponds to FAA AD 99-23-16] were issued to require a repetitive inspection of the inboard Z profile on both Left Hand (LH) and Right Hand (RH) sides.

An optional terminating action of the repetitive inspection of this [EASA] AD exists by modification of the aeroplane in accordance with the instructions of Airbus Service Bulletin (SB) A330-53-3019 or Airbus SB A340-53-4028, as applicable.

Since those [EASA] ADs were issued, in the frame of a new fatigue and damage tolerance evaluation, taking into account the aeroplane utilisation, the threshold and intervals were reassessed. This resulted in the conclusion that, in this specific case, certain thresholds and intervals are more restrictive.

For the reasons described above, this [EASA] AD retains the requirements of both DGAC France AD 96-056-029(B) and DGAC France AD 96-057-042(B), which are superseded, and requires accomplishment of repetitive inspections of the inboard Z profile (LH/RH) within the new thresholds and intervals.

You may examine the MCAI on the internet at http://www.regulations.gov by searching for and locating Docket No. FAA-2018-0302.

FAA's Determination and Requirements of This AD

This product has been approved by the aviation authority of another country, and is approved for operation in the United States. Pursuant to our bilateral agreement with the State of Design Authority, we have been notified of the unsafe condition described in the MCAI. We are issuing this AD because we evaluated all pertinent information and determined the unsafe condition exists and is likely to exist or develop on other products of these same type designs.

FAA's Determination of the Effective Date

Since there are currently no domestic operators of this product, we find good cause that notice and opportunity for prior public comment are unnecessary. In addition, for the reason(s) stated above, we find that good cause exists for making this amendment effective in less than 30 days.

Comments Invited

This AD is a final rule that involves requirements affecting flight safety, and we did not precede it by notice and opportunity for public comment. We invite you to send any written relevant data, views, or arguments about this AD. Send your comments to an address listed under the ADDRESSES section. Include “Docket No. FAA-2018-0302; Product Identifier 2013-NM-228-AD” at the beginning of your comments. We specifically invite comments on the overall regulatory, economic, environmental, and energy aspects of this AD. We will consider all comments received by the closing date and may amend this AD based on those comments.

We will post all comments we receive, without change, to http://www.regulations.gov, including any personal information you provide. We will also post a report summarizing each substantive verbal contact we receive about this AD.

Costs of Compliance

Currently, there are no affected U.S.-registered airplanes. This AD requires contacting the FAA to obtain instructions for addressing the unsafe condition, and doing the actions specified in those instructions. Based on the actions specified in the MCAI AD, we are providing the following cost estimates for an affected airplane that is placed on the U.S. Register in the future:

Estimated Costs
Action | Labor cost | Parts cost | Cost per product | Cost on U.S. operators
Inspection [new action] | 7 work-hours × $85 per hour = $595 per inspection cycle | $0 | $595 per inspection cycle | $0

We estimate the following costs to do any necessary on-condition modification that would be required based on the results of the required actions:

On-Condition Costs
Action | Labor cost | Parts cost | Cost per product | Cost on U.S. operators
Modification | 13 work-hours × $85 per hour = $1,105 | $2,350 | $3,455 | $0

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 99-23-16, Amendment 39-11412 (64 FR 61485, November 12, 1999), and adding the following AD:

2018-09-02 Airbus: Amendment 39-19258; Docket No. FAA-2018-0302; Product Identifier 2013-NM-228-AD.

(a) Effective Date

This AD becomes effective May 15, 2018.

(b) Affected ADs

This AD replaces AD 99-23-16, Amendment 39-11412 (64 FR 61485, November 12, 1999) (“AD 99-23-16”).

(c) Applicability

This AD applies to Airbus airplanes, certificated in any category, as specified in paragraphs (c)(1) and (c)(2) of this AD.

(1) Model A330-301, A330-321, A330-322, A330-341 and A330-342 airplanes, all manufacturer serial numbers, except those on which Airbus modification 42605 has been embodied in production.

(2) Model A340-211, A340-212, A340-213, A340-311, A340-312, and A340-313 airplanes, all manufacturer serial numbers, except those on which Airbus modification 42605 has been embodied in production.

(d) Subject

Air Transport Association (ATA) of America Code 53, Fuselage.

(e) Reason

This AD was prompted by a new fatigue and damage tolerance evaluation that concluded that the current inspection thresholds and intervals had to be more restrictive. We are issuing this AD to detect and correct fatigue cracking of the vertical flange of the inboard Z-stiffeners of the centerline panel of the fuselage belly fairing, which could result in reduced structural integrity of the belly fairing.

(f) Compliance

Comply with this AD within the compliance times specified, unless already done.

(g) Required Actions

Within 30 days after the effective date of this AD, request instructions from the Manager, International Section, Transport Standards Branch, FAA, to address the unsafe condition specified in paragraph (e) of this AD; and accomplish the actions at the times specified in, and in accordance with, those instructions. Guidance can be found in Mandatory Continuing Airworthiness Information (MCAI) European Aviation Safety Agency (EASA) AD 2013-0241, dated October 1, 2013.

(h) Alternative Methods of Compliance (AMOCs)

The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (i)(2) of this AD. Information may be emailed to: 9-ANM-116-AMOC-REQUESTS@faa.gov. Before using any approved AMOC, notify your appropriate principal inspector, or lacking a principal inspector, the manager of the local flight standards district office/certificate holding district office.

(i) Related Information

(1) Refer to MCAI EASA AD 2013-0241, dated October 1, 2013, for related information. You may examine the MCAI on the internet at http://www.regulations.gov by searching for and locating Docket No. FAA-2018-0302.

(2) For more information about this AD, contact Vladimir Ulyanov, Aerospace Engineer, International Section, Transport Standards Branch, FAA, 2200 South 216th Street, Des Moines, WA 98198; telephone and fax: 206-231-3229.

(j) Material Incorporated by Reference

None.

Issued in Des Moines, Washington, on April 11, 2018.
Dionne Palermo,
Acting Director, System Oversight Division, Aircraft Certification Service.

[FR Doc. 2018-08648 Filed 4-27-18; 8:45 am]

BILLING CODE 4910-13-P